Title 3—

The President

Proclamation 9683 of December 6, 2017

Recognizing Jerusalem as the Capital of the State of Israel and Relocating the United States Embassy to Israel to Jerusalem

By the President of the United States of America

A Proclamation

The foreign policy of the United States is grounded in principled realism, which begins with an honest acknowledgment of plain facts. With respect to the State of Israel, that requires officially recognizing Jerusalem as its capital and relocating the United States Embassy to Israel to Jerusalem as soon as practicable.

The Congress, since the Jerusalem Embassy Act of 1995 (Public Law 104-45) (the “Act”), has urged the United States to recognize Jerusalem as Israel's capital and to relocate our Embassy to Israel to that city. The United States Senate reaffirmed the Act in a unanimous vote on June 5, 2017.

Now, 22 years after the Act's passage, I have determined that it is time for the United States to officially recognize Jerusalem as the capital of Israel. This long overdue recognition of reality is in the best interests of both the United States and the pursuit of peace between Israel and the Palestinians.

Seventy years ago, the United States, under President Truman, recognized the State of Israel. Since then, the State of Israel has made its capital in Jerusalem—the capital the Jewish people established in ancient times. Today, Jerusalem is the seat of Israel's government—the home of Israel's parliament, the Knesset; its Supreme Court; the residences of its Prime Minister and President; and the headquarters of many of its government ministries. Jerusalem is where officials of the United States, including the President, meet their Israeli counterparts. It is therefore appropriate for the United States to recognize Jerusalem as Israel's capital.

I have also determined that the United States will relocate our Embassy to Israel from Tel Aviv to Jerusalem. This action is consistent with the will of the Congress, as expressed in the Act.

Today's actions—recognizing Jerusalem as Israel's capital and announcing the relocation of our embassy—do not reflect a departure from the strong commitment of the United States to facilitating a lasting peace agreement. The United States continues to take no position on any final status issues. The specific boundaries of Israeli sovereignty in Jerusalem are subject to final status negotiations between the parties. The United States is not taking a position on boundaries or borders.

Above all, our greatest hope is for peace, including through a two-state solution, if agreed to by both sides. Peace is never beyond the grasp of those who are willing to reach for it. In the meantime, the United States continues to support the status quo at Jerusalem's holy sites, including at the Temple Mount, also known as Haram al Sharif. Jerusalem is today—and must remain—a place where Jews pray at the Western Wall, where Christians walk the Stations of the Cross, and where Muslims worship at Al-Aqsa Mosque.

With today's decision, my Administration reaffirms its longstanding commitment to building a future of peace and security in the Middle East. It is time for all civilized nations and people to respond to disagreement with reasoned debate—not senseless violence—and for young and moderate voices across the Middle East to claim for themselves a bright and beautiful future. Today, let us rededicate ourselves to a path of mutual understanding and respect, rethinking old assumptions and opening our hearts and minds to new possibilities. I ask the leaders of the Middle East—political and religious; Israeli and Palestinian; and Jewish, Christian, and Muslim—to join us in this noble quest for lasting peace.

NOW, THEREFORE, I, DONALD J. TRUMP, President of the United States of America, by virtue of the authority vested in me by the Constitution and the laws of the United States, do hereby proclaim that the United States recognizes Jerusalem as the capital of the State of Israel and that the United States Embassy to Israel will be relocated to Jerusalem as soon as practicable.

IN WITNESS WHEREOF, I have hereunto set my hand this sixth day of December, in the year of our Lord two thousand seventeen, and of the Independence of the United States of America the two hundred and forty-second.

[FR Doc. 2017-26832

Filed 12-8-17; 11:15 am]

Billing code 3295-F8-P